Title 3—

The President

Proclamation 10595 of June 9, 2023

Flag Day and National Flag Week, 2023

By the President of the United States of America

A Proclamation

On Flag Day and during National Flag Week, we celebrate the enduring strength and promise that the stars and stripes on our flag have always embodied as they fly proudly across our country and around the world.

Our flag tells America's story—the story of an ever-evolving Nation. Thirteen colonies joining together and winning independence, forming a great Union of States that has grown bigger and more just across generations—a place where everyone is entitled to certain unalienable rights, among them life, liberty, and the pursuit of happiness. It is an emblem of our strength at home and abroad, synonymous with America as a force for good in the world. It has flown on battlefields since the Revolution and reminded allies and adversaries throughout the last century that the darkness of autocracy is no match for the flame of liberty. It flies over grand celebratory monuments, and it accompanies headstones at sacred places like Arlington National Cemetery, where Jill and I recently paid tribute to the hundreds of thousands of brave Americans who made the ultimate sacrifice for our freedom and future, giving their lives so our Nation might live. We honor their unbending sense of duty and courage and remember their faith that we would be worthy of their sacrifice.

Old Glory stands for hope, pride, and progress. It is stamped on our exports, hung from booming factories, and painted on spacecraft that travel high above our skies—a symbol of the American spirit that keeps innovating, building, and breaking boundaries. It waves for justice and equality. It adorns courtrooms and classrooms. And it presides over free and fair elections at polling places across the Nation, reinforcing the promise of our democracy.

Our flag embodies the very soul of America—a soul that has endured because of sacrifices made by generations of Americans, whose mission we must keep alive to ensure democracy endures. The Stars and Stripes belongs to all Americans and reminds us that much more unites us than divides us. It flies proudly in small town squares, on downtown skyscrapers, in high school gyms, in our biggest sports stadiums, and on our military bases. Wherever our flag is, it stands for freedom, justice, and opportunity; it is a beacon of democracy and the fundamental American promise that everyone is created equal and united in pursuit of a more perfect Union.

To commemorate the adoption of our flag in 1777, the Congress, by joint resolution approved on August 3, 1949, as amended (63 Stat. 492), designated June 14 of each year as “Flag Day” and requested the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, JOSEPH R. BIDEN JR., President of the United States of America, do hereby proclaim June 14, 2023, as Flag Day, and the week starting June 11, 2023, as National Flag Week. I direct the appropriate officials to display the flag on all Federal Government buildings during this week, and I urge all Americans to observe Flag Day and National Flag Week by displaying the flag and honoring all of our brave service members and revering those who gave their last full measure of devotion defending our freedoms. I encourage the people of the United States to observe with pride and all due ceremony those days from Flag Day through Independence Day, set aside by the Congress (89 Stat. 211), as a time to honor the American spirit, to celebrate our history and the foundational values we strive to uphold, and to publicly recite the Pledge of Allegiance to the Flag of the United States of America.

IN WITNESS WHEREOF, I have hereunto set my hand this ninth day of June, in the year of our Lord two thousand twenty-three, and of the Independence of the United States of America the two hundred and forty-seventh.

[FR Doc. 2023-12818

Filed 6-13-23; 8:45 am]

Billing code 3395-F3-P